DEPARTMENT OF DEFENSE

Defense Acquisition Regulations System

[Docket DARS-2018-0006; OMB Control Number 0704-0397]

Submission for OMB Review; Comment Request

AGENCY: Defense Acquisition Regulations System, Department of Defense (DoD).

ACTION: Notice; correction.

SUMMARY: DoD is making a correction to the notice published at 83 FR 19549 on May 3, 2018, which advised that the Defense Acquisition Regulations System submitted to OMB for clearance, a proposal for collection of information under the provisions of the Paperwork Reduction Act. The document contained an incorrect docket number.

DATES: Applicable June 8, 2018. Applicable beginning May 3, 2018.

FOR FURTHER INFORMATION CONTACT: Ms. Amy Williams, telephone 571-372-6106.

SUPPLEMENTARY INFORMATION: In the notice published at 83 FR 19549 on May 3, 2018, in the first column, the following correction is made to this notice. The docket number cited, DARS-2018-0003, is corrected to read DARS-2018-0006.

Amy G. Williams,
Deputy, Defense Acquisition Regulations System.

[FR Doc. 2018-12357 Filed 6-7-18; 8:45 am]

BILLING CODE 5001-06-P